Proclamation 8147 of May 18, 2007

World Trade Week, 2007

By the President of the United States of America

A Proclamation

World trade is essential to promoting global economic growth, development, freedom, and prosperity. During World Trade Week, we underscore our commitment to free and fair trade and acknowledge the benefits of open markets for our citizens and for people around the globe.

Trade creates wealth and opportunities, and United States engagement in the global economy has contributed to rising living standards throughout our country. Businesses that participate in international trade are more productive, have higher employment growth, and pay greater wages. Advancing free trade on a level playing field helps ensure that America benefits from the international market.

My Administration is committed to reducing barriers to trade, strengthening our strategic partnerships, and promoting economic growth throughout the world. At the beginning of my Administration, America had free trade agreements with three countries. Today, we have free trade agreements in force with 14 countries, creating benefits for American businesses, workers, and consumers. These trade agreements are particularly important for small and medium-sized companies to help them identify and take full advantage of new trade opportunities.

The United States continues to work with other nations in the World Trade Organization to complete the Doha Development Round, which has the potential to lift millions of people out of poverty. I have also called upon the Congress to extend Trade Promotion Authority so we can complete the Doha Round and continue to negotiate robust trade agreements. By working to expand trade, we open new markets for American products and services and help build free economies that can raise the standard of living for families.

NOW, THEREFORE I, GEORGE W. BUSH, President of the United States of America, by virtue of the authority vested in me by the Constitution and laws of the United States, do hereby proclaim May 20 through May 26, 2007, as World Trade Week. I encourage all Americans to observe this week with events, trade shows, and educational programs that celebrate the benefits of trade to our Nation and the global economy.

IN WITNESS WHEREOF, I have hereunto set my hand this eighteenth day of May, in the year of our Lord two thousand seven, and of the Independence of the United States of America the two hundred and thirty-first.

[FR Doc. 07-2583

Filed 5-22-07; 8:45 am]

Billing code 3195-01-P